NATIONAL FOUNDATION ON THE ARTS AND THE HUMANITIES

Humanities Panel Advisory Committee

AGENCY: National Endowment for the Humanities.

ACTION: Notice of charter renewal for Humanities Panel Advisory Committee.

SUMMARY: Pursuant to the Federal Advisory Committee Act and its implementing regulations, the National Endowment for the Humanities (NEH) gives notice that it renewed the Charter for the Humanities Panel advisory committee for an additional two-year period on November 17, 2025. The Acting Chairman of NEH determined that the renewal of the Humanities Panel is necessary and in the public interest in connection with the performance of duties imposed upon the Acting Chairman of NEH by the National Foundation on the Arts and the Humanities Act of 1965, as amended.

FOR FURTHER INFORMATION CONTACT: Elizabeth Voyatzis, Committee Management Officer, 400 7th Street SW, 4th Floor, Washington, DC 20506; (202) 606-8322; evoyatzis@neh.gov.

Dated: December 1, 2025.
Kimberly Hylan,
Attorney Advisor, National Endowment for the Humanities.

[FR Doc. 2025-21809 Filed 12-2-25; 8:45 am]

BILLING CODE 7536-01-P